DEPARTMENT OF THE INTERIOR

National Park Service

Notice of Availability of the Record of Decision for the Environmental Impact Statement on the South Denali Implementation Plan, Denali National Park and Preserve, AK

AGENCY: National Park Service, Interior.

ACTION: Notice of Availability of the Record of Decision for the Environmental Impact Statement on the South Denali Implementation Plan.

SUMMARY: The National Park Service (NPS) announces the availability of the Record of Decision (ROD) for the Environmental Impact Statement on the South Denali Implementation Plan, Denali National Park and Preserve, Alaska.

This Record of Decision documents the decision by the NPS, in cooperation with the State of Alaska and Matanuska-Susitna Borough to adopt the South Denali Implementation Plan. The Final South Denali Implementation Plan and Environmental Impact Statement (FEIS) was prepared cooperatively by the National Park Service, the State of Alaska, and the Matanuska-Susitna Borough to provide specific direction for expanded visitor facilities and recreational opportunities in the South Denali region until 2021. South Denali is defined to include the local communities, the Petersville Road corridor, the western section of Denali State Park, the northern part of the Peters Hills, lands east of the Peters Hills to the eastern boundary of Denali State Park, and the Parks Highway corridor from Rabideaux Creek north through the state park.

The NPS selected Alternative C, as described in the FEIS. Of the two action alternatives, this alternative best meets the objectives of the plan for resource protection, increasing quality recreational and access opportunities, and preserving quality of life values in local communities. The ROD briefly discusses the background for the planning effort, summarizes public involvement during the planning process, states the decision and discusses the basis for it, describes other alternatives considered, specifies the environmentally preferable alternative, and identifies measures adopted to minimize potential environmental harm.

ADDRESSES: The ROD can be found online at the NPS Planning, Environmental and Public Comment Web site at http://parkplanning.nps.gov/index.cfm. Copies of the ROD are available on request from: Miriam Valentine, National Park Service, Talkeetna Ranger Station, P.O. Box 588, Talkeetna, Alaska, 99676. Telephone: (907) 733-9102.

FOR FURTHER INFORMATION CONTACT: Mike Tranel, Chief of Planning, National Park Service, Denali National Park and Preserve, 240 West 5th Avenue, Anchorage, Alaska 99501. Telephone: (907) 644-3611.

SUPPLEMENTARY INFORMATION: The NPS prepared an EIS, as required, under the National Environmental Policy Act (NEPA) of 1969 and Council of Environmental Quality regulations (40 CFR part 1500).

A Notice of Intent to prepare an environmental impact statement, published in the Federal Register in February 2004 (69 FR 72513), formally initiated the NPS planning and EIS effort. A Draft EIS was issued in September 2005 (70 FR 55414). A Federal Register notice announcing the availability of the Final EIS was published by the U.S. Environmental Protection Agency on May 5, 2006, commencing the required 30-day no-action period (71 FR 26498). The Final EIS describes and analyzes the environmental impacts of two action alternatives and a no-action alternative.

The NPS selected Alternative C, as described in the Final EIS. The emphasis of the selected alternative is to enhance access and recreational opportunities throughout the South Denali region for a variety of visitors, including Alaskans, independent travelers, and package tour travelers, while at the same time protecting the important resource and community values in the area, including the rural lifestyle of local residents.

Major actions of the selected alternative include:

• Provide a new destination and additional visitor opportunities in the South Denali region. New facilities will offer easily accessible visitor opportunities along the state's main highway between Anchorage and Fairbanks. The visitor center will provide visitors an intimate setting and facilitate their connection to the landscape and natural resources. It will offer a range of opportunties for learning and recreating, and it will provide visitors of various abilities a chance to experience alpine and subarctic tundra environments and opportunities to view Mount McKinley and the Alaska Range. Opportunities to view wildlife exist as well as opportunities to spend a day or more at the visitor center or in the surrounding area.

• Offer a wide variety of high-quality recreation opportunities throughout the South Denali region for a variety of visitors. Visitors traveling in groups and those traveling independently can benefit from the options offered. Some, and perhaps all, of the facilities and opportunities should be attractive to Alaska residents who recreate in the South Denali region. The new Parks Highway visitor center will provide information, orientation, interpretive programs, and shelter to visitors. Public use cabins, trail systems for a wide variety of user groups, and camping facilities will provide options for visitors to experience the landscape in remote as well as in easily accessible settings. New trails, parking areas, boat launch, and potential docking facility will provide increased access to rivers and public lands in the South Denali region. Together these developments should accommodate the visitor growth anticipated for the South Denali region over the next 15 to 20 years.

• Create economic and employment opportunities for local residents through establishment of a new visitor destination. Residents of south central Alaska, in particular, will benefit from improved recreational access with this alternative. Rural character may be negatively affected, particularly for the community of Trapper Creek. Negative impacts will be partially mitigated by measures in the plan to protect the scenic qualities of adjacent road corridors. The agencies will continue to address local interests by seeking public input during future planning and implementation efforts.

Dated: July 31, 2006.
Victor Knox,
Acting Regional Director.

[FR Doc. 06-7714 Filed 9-15-06; 8:45 am]

BILLING CODE 4310-PF-M